COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

Comments Must be Received on or Before: July 20, 2008.

ADDRESSES: Committee for Purchase From People Who Are Blind or Severely Disabled, Jefferson Plaza 2, Suite 10800, 1421 Jefferson Davis Highway, Arlington, Virginia 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Bulletin Rails

NSN: 7520-00-NIB-1801-48″, Natural Cork, Aluminum Frame.

NSN: 7520-00-NIB-1802—36″, Natural Cork, Aluminum Frame.

NSN: 7520-00-NIB-1803—24″, Natural Cork, Aluminum Frame.

Marker Board, Wall Mounted

NSN: 7110-00-NIB-0037—3′×2′, Combo Dry Erase, Cork Board, Oak Finish.

NSN: 7110-00-NIB-0038—24″×18″, Melamine, Dry Erase Board, Thin Aluminum Frame.

NSN: 7110-00-NIB-0042—24″×18″, Cork Board, Oak Finish.

NSN: 7110-00-NIB-0047—3′×2′, Fabric Board, Grey, Black Plastic Radius Corners.

NSN: 7110-00-NIB-0048—4—12″×12″, Cork, Panels w/Adhesive Backing (no frame).

NSN: 7110-00-NIB-0050—1″×3″, Cork Board, Vertical, Slim Line Oak Finish.

NSN: 7110-00-NIB-0060—5′×3′, Porcelain Magnetic Dry Erase Board, Thick Aluminum.

NSN: 7110-01-416-5198—24″×18″, Melamine, Dry Erase Board, Thin Aluminum.

NSN: 7195-01-235-4161—3′×2′, Cork Board, Oak Finish.

Coverage: A-List for the total Government requirement as specified by the General Services Administration.

Bulletin Board

NSN: 7195-01-218-2026—4′×3′, Cork Board, Oak Finish.

Marker Board, Wall Mounted

NSN: 7110-00-NIB-0028—24″×13″, Dry Erase, Cubicle Board, Aluminum.

NSN: 7110-00-NIB-0029—30″×18″, Dry Erase, Cubicle Board, Aluminum.

NSN: 7110-00-NIB-0030—30″×18″, Combo Dry Erase, Cubicle Color Cork Board, Aluminum.

NSN: 7110-00-NIB-0031—30″×18″, Cubicle Color Cork Board, Aluminum.

NSN: 7110-00-NIB-0032—30″×18″, Dry Erase, 1 mo. Calendar, Aluminum.

NSN: 7110-00-NIB-0039—4′×3′, Combo Dry Erase, Cork Board, Oak Finish.

NSN: 7110-00-NIB-0040—6′×4′, Melamine Dry Erase Magnetic, Thick Aluminum Frame.

NSN: 7110-00-NIB-0043—6′×4′, Porcelain, Dry Erase Magnetic, Thick Aluminum Frame.

NSN: 7110-00-NIB-0045—24″×18″, In/Out Board System, Thin Aluminum Frame.

NSN: 7110-00-NIB-0046—4′×3, Fabric Board, Black Plastic, Radius Corners.

NSN: 7110-00-NIB-0049—6′×4′, Cork Board, Thin Aluminum Frame.

NSN: 7110-00-NIB-0051—6′×4′, Cork Board, Oak Finish.

Coverage: B-List for the broad Government requirement as specified by the General Services Administration.

NPA: The Lighthouse for the Blind, Inc. (Seattle Lighthouse), Seattle, WA.

Contracting Activity: General Service Administration, Federal Supply Service, National Furniture Acquisition Center, Arlington, VA.

Shredders, Paper

NSN: 7490-00-NIB-0009—Fellowes Model 970 Cross Cut.

NSN: 7490-00-NIB-0011—Fellowes Model 4000 Cross Cut.

Coverage: A-List for the total Government requirement as specified by the General Services Administration.

NSN: 7490-00-NIB-0010—Fellowes Model 4000 Strip Cut.

Coverage: B-List for the broad Government requirement as specified by the General Services Administration.

NPA: L.C. Industries for the Blind, Inc., Durham, NC.

Contracting Activity: General Services Administration, Office Supplies & Paper Products Acquisition Ctr, New York, NY.

SKILCRAFT Bath & Shower Scrubber & Refill

NSN: M.R. 1101—SKILCRAFT Bath & Shower Scrubber.

NSN: M.R. 1102—SKILCRAFT Bath & Shower Scrubber (Refill).

NPA: Industries for the Blind, Inc., West Allis, WI.

Contracting Activity: Defense Commissary Agency (DeCA), Fort Lee, VA.

Services

Service Type/Location: Custodial & Grounds Maintenance, Naval Operations Support Center, 1325 Helena Avenue, Helena, MT.

NPA: Helena Industries, Inc., Helena, MT.

Contracting Activity: Naval Facilities (NAVFAC)—Northwest, Silverdale, WA.

Service Type/Location: Custodial Services, Malmstrom Air Force Base, Basewide, Malstrom AFB, MT.

NPA: Skils'kin, Spokane, WA.

Contracting Activity: AFSPC Malmstrom, Malmstrom Air Force Base, MT.

Service Type/Location: Custodial Services, Navy Operational Support Center (NOSC), 1 Linsley, Plainville, CT.

NPA: Easter Seals Greater Hartford Rehabilitation Center, Inc., Hartford, CT.

Contracting Activity: Naval Facilities Engineering Command (NAVFAC)—Mid-Atlantic, PWD Portsmouth, Portsmouth, NH.

Service Type/Location: Custodial Services, Senate Employee Child Care Center, 321 Massachusetts Avenue, NE. Washington, DC.

NPA: Melwood Horticultural Training Center, Upper Marlboro, MD.

Contracting Activity: The Architect of the Capitol, AOC Procurement Division, Washington, DC.

Service Type/Location: Custodial Services, U.S. Post Office and Courthouse, 7th Ave. and Grant Street, Pittsburgh, PA.

NPA: Goodwill Commercial Services, Inc., Pittsburgh, PA.

Contracting Activity: General Services Administration, Public Buildings Service (3PK), Philadelphia, PA.

Service Type/Location: Facilities Management, Naval Surface Warfare Center, Acoustic Research Detachment (ARD), Bayview, ID.

NPA: Skookum Educational Programs, Bremerton, WA.

Contracting Activity: Naval Facilities Engineering Command (NAVFAC)—Silverdale, WA.

Service Type/Location: Document Destruction, Social Security Administration, 600 West Madison St, Chicago, IL.

NPA: Goodwill Industries of Southeastern Wisconsin, Inc, Milwaukee, WI.

Contracting Activity: Social Security Administration, Chicago, IL.

Service Type/Location: Document Management & Administrative Services, Fort Rucker, Fort Rucker, AL.

NPA: Lakeview Center, Inc., Pensacola, FL.

Contracting Activity: Department of the Army, Directorate of Contracting, Fort Rucker, AL.

Service Type/Location(s): Medical Transcription, VA Hudson Valley Health Care System, Montrose Campus, Route 9A, Montrose, NY; Castle Point Campus, Route 9D, Castle Point, NY.

NPA: National Telecommuting Institute, Inc., Boston, MA.

Contracting Activity: The Department of Veteran Affairs, VA Medical Center—Montrose Campus, Bronx, NY.

Service Type/Location: Recycling Service, Internal Revenue Service Headquarters, 1111 Constitution Avenue, NW., Washington, DC.

NPA: Didlake, Inc., Manassas, VA.

Contracting Activity: U.S. Department of the Treasury, Internal Revenue Service Headquarters, Oxon Hill, MD.

Service Type/Location: Vehicle Maintenance Services, Aberdeen Proving Ground, 4118 Susquehanna Ave, Aberdeen, MD.

NPA: PRIDE Industries, Roseville, CA.

Contracting Activity: General Services Administration, Federal Supply Service, Region 3 (3FPU), Philadelphia, PA.

Service Type/Location: Recycling Service (6 Locations): Public Works Department (PWD) Washington, Washington, DC; PWD Patuxent River, Patuxent River, MD; PWD North Potomac, Bethesda, MD; PWD Annapolis, Annapolis, MD; PWD South Potomac, Indian Head, MD and Dahlgren, VA; PWD Quantico, Quantico, VA.

NPA: Melwood Horticultural Training Center, Upper Marlboro, MD.

Contracting Activity: Naval Facilities Acquisition Command (NAVFAC)—Washington, Washington, DC.

Kimberly M. Zeich,
Director, Program Operations.

[FR Doc. E8-14027 Filed 6-19-08; 8:45 am]

BILLING CODE 6353-01-P